DEPARTMENT OF COMMERCE

International Trade Administration

[A-570-106]

Wooden Cabinet and Vanities and Components Thereof From the People's Republic of China: Preliminary Results, Preliminary Determination of No Shipments, and Partial Rescission of the Antidumping Duty Administrative Review; 2021-2022

AGENCY: Enforcement and Compliance, International Trade Administration, Department of Commerce.

SUMMARY: The U.S. Department of Commerce (Commerce) preliminarily determines that certain producers and or/exporters made sales of wooden cabinets and vanities and components thereof (cabinets) at less than normal value, and eight companies had no shipments of subject merchandise during the period of review (POR) April 1, 2021, through March 31, 2022. Additionally, Commerce is rescinding this review with respect to Linyi Bomei Furniture Co., Ltd., and Jiangsu Weisen Houseware Co., Ltd. Interested parties are invited to comment on the preliminary results of this review.

DATES: Applicable May 5, 2023.

FOR FURTHER INFORMATION CONTACT: Aleksandras Nakutis and Jacob Keller, AD/CVD Operations, Office I, Enforcement and Compliance, International Trade Administration, U.S. Department of Commerce, 1401 Constitution Avenue NW, Washington, DC 20230; telephone: (202) 482-3147 and (202) 482-4849, respectively.

SUPPLEMENTARY INFORMATION:

Background

On April 21, 2020, Commerce published in the Federal Register the antidumping duty (AD) order on cabinets from the People's Republic of China (China).¹ On April 1, 2022, Commerce published a notice of opportunity to request an administrative review of the Order, covering the POR, pursuant to section 751(a)(1) of the Tariff Act of 1930, as amended (the Act).² On June 9, 2022, based on timely requests for review, Commerce initiated an administrative review of the Order covering the POR.³ The administrative review covers 49 companies, including two mandatory respondents, Fujian Dushi Wooden Industry Co., Ltd. and The Ancientree Cabinet Co., Ltd.⁴

¹ See Wooden Cabinets and Vanities and Components Thereof from the People's Republic of China: Antidumping Duty Order, 85 FR 22126 (April 21, 2020) (Order).

² See Antidumping or Countervailing Duty Order, Finding, or Suspended Investigation; Opportunity to Request Administrative Review and Join Annual Inquiry Service List, 87 FR 63 (April 1, 2022).

³ See Initiation of Antidumping and Countervailing Duty Administrative Reviews, 87 FR 111 (June 9, 2022) (Initiation Notice).

⁴ See Memorandum, “Respondent Selection,” dated September 14, 2022.

Scope of the Order

The products covered by this Order are wooden cabinets and vanities that are for permanent installation (including floor mounted, wall mounted, ceiling hung or by attachment of plumbing), and wooden components thereof. A full description of the scope of the Order is provided in the Preliminary Decision Memorandum.⁵

⁵ See Memorandum, “Decision Memorandum for the Preliminary Results, Preliminary Determination of No Shipments, and Partial Rescission,” dated concurrently with, and hereby adopted by, this notice (Preliminary Decision Memorandum).

Preliminary Determination of No Shipments

Based on information on the record, we preliminarily determine that eight companies subject to this administrative review had no shipments of subject merchandise during the POR.⁶ Consistent with our practice in non-market economy (NME) cases, we are not rescinding this review with respect to these companies but, rather, intend to complete the review and issue appropriate instructions to U.S. Customs and Border Protection (CBP) based on the final results of the review.⁷ For additional information regarding these preliminary determinations, see the Preliminary Decision Memorandum.

⁶ See appendix II.

⁷ See Non-Market Economy Antidumping Proceedings: Assessment of Antidumping Duties, 76 FR 65694, 65694-95 October 24, 2011); see also the “Assessment Rates” section, infra.

Rescission of Review in Part

Pursuant to 19 CFR 351.213(d)(1), Commerce will rescind an administrative review, in whole or in part, if the party that requested a review withdraws its request within 90 days of the date of publication of the notice of initiation. The requests for an administrative review of the two companies listed in appendix II to this notice were withdrawn within 90 days of the date of publication of the Initiation Notice.⁸ As a result, Commerce is rescinding this review with respect to Jiangsu Weisen Houseware Co., Ltd. and Linyi Bomei Furniture Co., Ltd., in accordance with 19 CFR 351.213(d)(1).

⁸ See Jiangsu Weisen Houseware Co., Ltd. and Linyi Bomei Furniture Co., Ltd.' Letter, “Withdrawal of Requests for Administrative Review,” dated September 7, 2022.

Separate Rates

Commerce preliminarily determines that 23 companies, not individually examined and listed in appendix II to this notice, are eligible for separate rates in this administrative review.⁹ The Act and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate rate respondents which Commerce did not examine individually in an administrative review. Section 735(c)(5)(A) of the Act states that the all-others rate should be calculated by averaging the weighted-average dumping margins calculated for individually-examined respondents, excluding dumping margins that are zero, de minimis, or based entirely on facts available. For the preliminary results of this review, Commerce determined the estimated dumping margins for Fujian Dushi Wooden Industry Co., Ltd. and The Ancientree Cabinet Co., Ltd. to be 43.00 percent and 7.71 percent, respectively. For the reasons explained in the Preliminary Decision Memorandum, we are assigning the 11.49 percent rate to the 23 non-examined respondents which qualify for a separate rate in this review, consistent with Commerce's practice and section 735(c)(5)(A) of the Act.

⁹ See appendix II; see also Preliminary Decision Memorandum at the “Separate Rate Determination” section for more details.

China-Wide Entity

Under Commerce's policy regarding the conditional review of the China-wide entity,¹⁰ the China-wide entity will not be under review unless a party specifically requests, or Commerce self-initiates, a review of the entity. Because no party requested a review of the China-wide entity in this review, the entity is not under review, and the entity's rate (i.e., 251.64 percent) is not subject to change.¹¹ Commerce considers the 16 companies for which a review was requested (which did not file a separate rate application or did not demonstrate separate rate eligibility) listed in appendix II to this notice, to be part of the China-wide entity.¹²

¹⁰ See Antidumping Proceedings: Announcement of Change in Department Practice for Respondent Selection in Antidumping Duty Proceedings and Conditional Review of the Nonmarket Economy Entity in NME Antidumping Duty Proceedings, 78 FR 65963 (November 4, 2013).

¹¹ See Order.

¹² See Initiation Notice (“All firms listed below that wish to qualify for separate rate status in the administrative reviews involving NME countries must complete, as appropriate, either a separate rate application or certification, as described below.”); see also Appendix II for the list of companies that are subject to this administrative review that are considered to be part of the China-wide entity.

Methodology

Commerce is conducting this review in accordance with section 751(a)(1)(B) of the Act. For a full description of the methodology underlying our conclusions, see the Preliminary Decision Memorandum. A list of topics discussed in the Preliminary Decision Memorandum is included as appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

Preliminary Results of Review

Commerce preliminarily determines that the following weighted-average dumping margins exists for the administrative review covering the period April 1, 2021, through March 31, 2022:

Exporter | Weighted- average dumping margin (percent)
Fujian Dushi Wooden Industry Co., Ltd | 43.00
The Ancientree Cabinet Co., Ltd | 7.71
Non-Selected Companies Under Review Receiving a Separate Rate ¹³ | 11.49

Disclosure

¹³ See appendix II.

Commerce intends to disclose to parties to the proceeding the calculations performed for these preliminary results of review within five days of the date of publication of this notice in the Federal Register in accordance with 19 CFR 351.224(b).

Public Comment

Interested parties will be provided an opportunity to submit written comments (case briefs) at a date to be determined by Commerce. Rebuttal briefs, limited to issues raised in the case briefs, may be filed not later than seven days after the date for filing case briefs.¹⁴ Pursuant to 19 CFR 351.309(d)(2), rebuttal briefs must be limited to issues raised in the case briefs.¹⁵ Commerce modified certain of its requirements for serving documents containing business proprietary information until further notice.¹⁶ Parties who submit case briefs or rebuttal briefs in this proceeding are encouraged to submit with each argument: (1) a statement of the issue; (2) a brief summary of the argument; and (3) a table of authorities.¹⁷

¹⁴ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”).

¹⁵ See 19 CFR 351.309; see also 19 CFR 351.303 (for general filing requirements).

¹⁶ See Temporary Rule Modifying AD/CVD Service Requirements Due to COVID-19; Extension of Effective Period, 85 FR 41363 (July 10, 2020).

¹⁷ See 19 CFR 351.309(c)(2) and (d)(2); see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the publication of this notice. Requests should contain the party's name, address, telephone number, the number of participants, whether any participant is a foreign national, and a list of the issues to be discussed. If a request for a hearing is made, Commerce intends to hold the hearing at a time and date to be determined. Parties should confirm by telephone the date, time, and location of the hearing two days before the scheduled date.

Unless the deadline is extended, Commerce intends to issue the final results of this review, including the results of its analysis of the issues raised in any written briefs, no later than 120 days after the date of publication of this notice, pursuant to section 751(a)(3)(A) of the Act and 19 CFR 351.213(h).

Assessment Rates

Upon issuing the final results, Commerce will determine, and CBP shall assess, antidumping duties on all appropriate entries covered by this review.¹⁸ If the preliminary results are unchanged for the final results, we will instruct CBP to apply an ad valorem assessment rate of 251.64 percent to all entries of subject merchandise during the POR which were exported by the companies considered to be a part of the China-wide entity listed in appendix II of this notice. If Commerce determines that an exporter under review had no shipments of the subject merchandise, any suspended entries that entered under that exporter's case number (i.e., at that exporter's rate) will be liquidated at the China-wide rate.¹⁹

¹⁸ See 19 CFR 351.212(b)(1).

¹⁹ See Non-Market Economy Antidumping Proceedings: Assessment of Antidumping Duties, 76 FR 65694, 65695 (October 24, 2011).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of the subject merchandise from China entered, or withdrawn from warehouse, for consumption on or after the publication date, as provided by section 751(a)(2)(C) of the Act: (1) for the subject merchandise exported by the company listed above that has a separate rate, the cash deposit rate will be equal to the weighted-average dumping margin established in the final results of this administrative review (except, if the rate is zero or de minimis, then zero cash deposit will be required); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Notification to Importers

This notice serves as a preliminary reminder to importers of their responsibility under 19 CFR 351.402(f)(2) to file a certificate regarding the reimbursement of antidumping and/or countervailing duties prior to liquidation of the relevant entries during these PORs. Failure to comply with this requirement could result in Commerce's presumption that reimbursement of antidumping and/or countervailing duties occurred and the subsequent assessment of double antidumping duties, and/or an increase in the amount of antidumping duties by the amount of the countervailing duties.

Notification to Interested Parties

Commerce is issuing and publishing the preliminary results of this review in accordance with sections 751(a)(1)(B), 751(a)(3) and 777(i) of the Act, and 19 CFR 351.213(d)(4) and 351.221(b)(4).

Dated: April 28, 2023.
Lisa W. Wang,
Assistant Secretary for Enforcement and Compliance.

Appendix I

List of Topics Discussed in the Preliminary Decision Memorandum

I. Summary

II. Background

III. Partial Rescission of Administrative Review

IV. Scope of the Order

V. Product Characteristics

VI. No-Shipment Certifications

VII. Discussion of the Methodology

VIII. Currency Conversion

IX. Adjustment Under Section 777A(f) of the Act

X. Recommendation

Appendix II

No Shipment Companies

1. Dalian Hualing Wood Co., Ltd.

2. Dalian Meisen Woodworking Co., Ltd.

3. Guangzhou Nuolande Import and Export Co., Ltd.

4. Hangzhou Hoca Kitchen & Bath Products Co., Ltd.

5. Linyi Kaipu Furniture Co., Ltd.

6. Senke Manufacturing Company

7. Shandong Longsen Woods Co., Ltd.

8. Shouguang Fushi Wood Co., Ltd.

Non-Selected Companies Under Review Receiving a Separate Rate

1. Anhui Xinyuanda Cupboard Co., Ltd.

2. Dongguan Ri Sheng Home Furnishing Articles Co., Ltd.

3. Goldenhome Living Co., Ltd.

4. Jiang Su Rongxin Wood Industry Co., Ltd. (Formerly known as Jiang Su Rongxin Cabinets Ltd.)

5. Jiangsu Sunwell Cabinetry Co., Ltd.

6. KM Cabinetry Co., Ltd.

7. Kunshan Baiyulan Furniture Co., Ltd.

8. Morewood Cabinetry Co., Ltd.

9. Nantong Aershin Cabinets Co., Ltd.

10. Quanzhou Ample Furnishings Co., Ltd.

11. Qufu Xinyu Furniture Co., Ltd.

12. Shanghai Beautystar Cabinetry Co., Ltd.

13. Shanghai Zifeng International Trading Co., Ltd.

14. Sheen Lead International Trading (Shanghai) Co., Ltd.

15. Taishan Oversea Trading Co., Ltd.

16. Taizhou Overseas Int'l Ltd.

17. Tech Forest Cabinetry Co., Ltd.

18. Weifang Fuxing Wood Co., Ltd.

19. Xiamen Adler Cabinetry Co., Ltd.

20. Yichun Dongmeng Wood Co., Ltd.

21. Yixing Pengjia Technology Co., Ltd. (Formerly known as Yixing Pengjia Cabinetry Co., Ltd.)

22. Zhangzhou OCA Furniture Co., Ltd.

23. Zhoushan For-strong Wood Co., Ltd.

Companies Considered To Be Part of the China-Wide Entity

1. Deqing Meisheng Import and Export Co., Ltd.

2. Fujian Senyi Kitchen Cabinet Co., Ltd.

3. Fuzhou Hauster Kitchen Cabinet Manufacturing Co., Ltd.

4. Fuzhou Pyrashine Trading Co., Ltd.

5. Jiang Su Rongxin Import and Export Co., Ltd.

6. Linshu Meibang Furniture Co., Ltd.

7. Shanghai Zifeng Industries Development Co., Ltd.

8. Shenzhen Pengchengzhirong Trade Co., Ltd.

9. Suzhou Siemo Wood Import & Export Co., Ltd.

10. Weihai Jarlin Cabinetry Manufacture Co., Ltd.

11. Weisen Houseware Co., Ltd.

12. Xiamen Got Cheer Co., Ltd.

13. Yindu Kitchen Equipment Co., Ltd.

14. Zaozhuang New Sharp Import & Export Trading Co., Ltd.

15. ZBOM Cabinets Co., Ltd.

16. Zhongshan KM Cabinetry Co., Ltd.

Companies Subject to Rescission of Review

1. Jiangsu Weisen Houseware Co., Ltd.

2. Linyi Bomei Furniture Co., Ltd.

[FR Doc. 2023-09572 Filed 5-4-23; 8:45 am]

BILLING CODE 3510-DS-P